DEPARTMENT OF THE INTERIOR

Bureau of Land Management

[CACA 49834; L51010000.ER0000 LLCAD09000 LVRWB09B3160]

Notice of Availability of the Final Environmental Impact Report/Final Environmental Impact Statement for the Southern California Edison Eldorado-Ivanpah Transmission Project, California and Nevada

AGENCY: Bureau of Land Management, Interior.

ACTION: Notice of Availability.

SUMMARY: In accordance with the National Environmental Policy Act of 1969, as amended, the Federal Land Policy and Management Act of 1976 (FLPMA), and the California Environmental Quality Act of 1970, the Department of the Interior, Bureau of Land Management (BLM) and the California Public Utilities Commission (CPUC) have prepared a Final Environmental Impact Report (EIR)/Final Environmental Impact Statement (EIS) for the proposed Eldorado-Ivanpah Transmission Project (EITP), Clark County, Nevada, and San Bernardino County, California, and by this notice are announcing its availability.

DATES: The BLM will not issue a Record of Decision based on the EITP Final EIR/EIS until 30 days after the date the Environmental Protection Agency publishes its Notice of Availability in the Federal Register.

ADDRESSES: Copies of the EITP Final EIR/EIS are available at the Needles Field Office, 1303 South U.S. Highway 95, Needles, California 92363; on the Internet at: http://www.blm.gov/ca/st/en/fo/needles.html; and at the BLM California State Office, 2800 Cottage Way, Sacramento, California 95825. Electronic (CD-ROM) or paper copies may also be obtained by contacting George Meckfessel at (760) 326-7000 or by e-mailing your request to caeitp@blm.gov. Please include your name and mailing address.

FOR FURTHER INFORMATION CONTACT: For further information and/or to have your name added to our mailing list, contact Tom Hurshman, Project Manager, address: 2465 South Townsend Avenue, Montrose, Colorado 81401; phone: (970) 240-5345; fax: (970) 240-5368, or e-mail: Tom_Hurshman@blm.gov.

SUPPLEMENTARY INFORMATION: The BLM's purpose and need for the EITP is to respond to Southern California Edison's (SCE) application under Title V of the FLPMA (43 USC 1761) for authorization of a right-of-way (ROW) on BLM-managed lands to upgrade and replace an existing 115-kilovolt (kV) transmission line on public lands with a new double circuit 230-kV transmission line in compliance with FLPMA, BLM's ROW regulations, and other applicable Federal laws. The upgraded transmission line would extend approximately 35 miles from southern Clark County, Nevada (28 miles), into northeastern San Bernardino County, California (7 miles). The project would also include a new Ivanpah substation in California near Primm, Nevada, which would serve as a connector hub for solar energy generated in the Ivanpah Valley area. The existing Eldorado Substation would be modified to accommodate the new EITP. The segment of transmission line to be replaced is approximately 36 miles long and originates at the existing Eldorado Substation in T. 25 S., R. 62 E., Sec. 1, Mount Diablo Meridian, and terminates at the proposed Ivanpah Substation in T. 16 N., R. 14 E., Sec. 4, San Bernardino Meridian.

The BLM will decide whether to approve, approve with modification, or deny issuance of a ROW authorization to SCE for the proposed EITP. The EITP would carry electricity from several renewable energy projects proposed in and around the Ivanpah Valley, including the Ivanpah Solar Energy Generation System currently under construction by BrightSource Energy Partners. The proposed transmission line and new substation would be constructed within an existing designated utility corridor. Telecommunications lines are also proposed. The public lands in the project area are managed by the BLM in accordance with the California Desert Conservation Area Plan and the Las Vegas Field Office Resource Management Plan.

The BLM will consider approval of the EITP in a manner that avoids or reduces impacts to public lands. This action is consistent with Federal law and the Department of the Interior's policy to facilitate and encourage the development of renewable energy resources on the public lands pursuant to Title V of FLPMA and Section 211 of the Energy Policy Act of 2005 (119 Stat. 594, 660).

In addition to the proposed action and the no action alternatives, the Final EIR/EIS analyzes six additional action alternatives that address alternative routes for the transmission and telecommunications lines. As proposed, the transmission line has been sited to take advantage of existing designated ROW corridors which are areas identified by BLM land use plans as suitable for ROW development.

A Notice of Intent to prepare an EIR/EIS for the EITP was published in the Federal Register on July 27, 2009 (74 FR 37053) followed by a 30-day public scoping period. A Notice of Availability for the Draft EIR/EIS was published in the Federal Register on May 7, 2010 (75 FR 25288) followed by a 45-day public comment period. The BLM and the CPUC conducted one public meeting during the comment period on the Draft EIR/EIS. Major comments addressed in this Final EIR/EIS concern project impacts on biological resources, compatibility with the proposed Southern Nevada Supplemental Airport, consistency with existing BLM land use plans, and cumulative impacts.

Authority: 40 CFR 1506.6, 1506.10, and 43 CFR 1610.2.

Thomas Pogacnik,
Deputy State Director.

[FR Doc. 2010-31970 Filed 12-17-10; 8:45 am]

BILLING CODE 4310-40-P